DEPARTMENT OF ENERGY

Federal Energy Regulatory Commission

Combined Notice of Filings, #1

September 11, 2008.

Take notice that the Commission received the following electric corporate filings:

Docket Numbers: EC08-122-000.

Applicants: Indeck Maine Energy, LLC, Indeck Energy Services, Inc., Ridgewood Maine, L.L.C., Covanta Energy Corporation.

Description: Indeck Maine Energy LLC et al. submit Joint Application for Authority to Transfer Jurisdictional Facilities and Request for Expedited Consideration and Waiver et al.

Filed Date: 09/04/2008.

Accession Number: 20080909-0082.

Comment Date: 5 p.m. Eastern Time on Thursday, September 25, 2008.

Take notice that the Commission received the following electric rate filings:

Docket Numbers: ER99-2342-012.

Applicants: Tampa Electric Company.

Description: Tampa Electric Co submits an updated market power analysis that demonstrates continued eligibility to sell electric capacity etc.

Filed Date: 09/02/2008.

Accession Number: 20080909-0061.

Comment Date: 5 p.m. Eastern Time on Tuesday, September 23, 2008.

Docket Numbers: ER01-2636-004.

Applicants: ALLETE, Inc.

Description: ALLETE, Inc request that the Commission provide for tariff revisions filed on 8/11/08 to become effective on such date the Midwest ISO has fully implemented the Ancillary Services Market.

Filed Date: 09/05/2008.

Accession Number: 20080909-0086.

Comment Date: 5 p.m. Eastern Time on Friday, September 26, 2008.

Docket Numbers: ER07-927-001.

Applicants: Entergy Services, Inc.

Description: Entergy Services Inc. submits a compliance refund report summarizing transmission rate refunds for June 1, 2007 through May 31, 2008.

Filed Date: 09/05/2008.

Accession Number: 20080909-0059.

Comment Date: 5 p.m. Eastern Time on Friday, September 26, 2008.

Docket Numbers: ER07-958-001, ER07-936-001.

Applicants: Rumford Power Inc., Tiverton Power Inc.

Description: Rumford Power Inc et al. submit a revised Appendix B with certain additional fields included in response to FERC's informal request for additional information re their 6/27/08 submission.

Filed Date: 09/05/2008.

Accession Number: 20080909-0084.

Comment Date: 5 p.m. Eastern Time on Friday, September 26, 2008.

Docket Numbers: ER07-1194-001.

Applicants: Castlebridge Energy Group LLC.

Description: Motion of Castlebridge Energy Group LLC for Determination of Category 1 Seller Status.

Filed Date: 08/13/2008.

Accession Number: 20080813-5058.

Comment Date: 5 p.m. Eastern Time on Monday, September 29, 2008.

Docket Numbers: ER08-953-002.

Applicants: Wisconsin Electric Power Company.

Description: Wisconsin Electric Power Company submits corrected tariff sheets to properly designate First Revised Rate Schedule 112.

Filed Date: 09/05/2008.

Accession Number: 20080909-0060.

Comment Date: 5 p.m. Eastern Time on Friday, September 26, 2008.

Docket Numbers: ER08-1210-001.

Applicants: Southern California Edison Company.

Description: Southern California Edison Co. submits an Amended and Restated Arizona Nuclear Power Project Hassayampa Switchyard Interconnection Agreement.

Filed Date: 09/08/2008.

Accession Number: 20080910-0072.

Comment Date: 5 p.m. Eastern Time on Monday, September 29, 2008.

Docket Numbers: ER08-1310-000.

Applicants: American Electric Power Service Corporation.

Description: Withdrawal of Application of American Electric Power Service Corporation for approval of limited notices to proceed or, in the alternative notice of cancellation on filed rate schedules.

Filed Date: 09/10/2008.

Accession Number: 20080910-5113.

Comment Date: 5 p.m. Eastern Time on Wednesday, October 01, 2008.

Docket Numbers: ER08-1425-001.

Applicants: ML Partnership, LLC.

Description: ML Partnership, LLC submits an updated Petition and FERC Electric Tariff Original Volume 1.

Filed Date: 09/08/2008.

Accession Number: 20080910-0071.

Comment Date: 5 p.m. Eastern Time on Monday, September 29, 2008.

Docket Numbers: ER08-1432-001.

Applicants: MS Solar Solutions Corp.

Description: MS Solar Solutions Corp resubmits Original Sheet 1 et al. to FERC Rate Schedule No. 1, effective 7/21/08, associated with the Notice of succession in ownership operation filed August 20, 2008.

Filed Date: 09/08/2008.

Accession Number: 20080910-0070.

Comment Date: 5 p.m. Eastern Time on Monday, September 29, 2008.

Docket Numbers: ER08-1485-000.

Applicants: Midwest Independent System Transmission Operator, Inc.

Description: Midwest ISO submits proposed revisions to the Credit Policy in Attachment L of the Midwest ISO's Open Access Transmission and Energy Markets Tariff, FERC Electric Tariff, Third Revised etc.

Filed Date: 08/29/2008.

Accession Number: 20080903-0301.

Comment Date: 5 p.m. Eastern Time on Friday, September 19, 2008.

Docket Numbers: ER08-1507-000.

Applicants: New York Independent System Operator, Inc., New York Power Authority.

Description: New York ISO et al. submits an Executed Standard Large Generator Interconnection Agreement with Noble Chateaugay Windpark, LLC.

Filed Date: 09/08/2008.

Accession Number: 20080910-0069.

Comment Date: 5 p.m. Eastern Time on Monday, September 29, 2008.

Docket Numbers: ER08-1508-000.

Applicants: California Independent System Operator Corporation.

Description: California Independent System Operator Corp submits proposed tariff revisions re 2009 CRR Release Process. On 9/9/08 a letter informing FERC that service of the 9/8/08 filing was actually made on 9/9/08 etc. was submitted.

Filed Date: 09/08/2008.

Accession Number: 20080910-0068.

Comment Date: 5 p.m. Eastern Time on Monday, September 29, 2008.

Take notice that the Commission received the following electric securities filings:

Docket Numbers: ES08-60-000.

Applicants: MidAmerican Energy Company.

Description: Application for Authorization to Issue and Sell up to $870 Million of Bonds, Notes, Debentures, Guarantees or Other Evidences of Long-Term Indebtedness.

Filed Date: 08/26/2008.

Accession Number: 20080826-5067.

Comment Date: 5 p.m. Eastern Time on Tuesday, September 16, 2008.

Docket Numbers: ES08-61-000.

Applicants: MidAmerican Energy Company.

Description: Application for Authorization to Issue and Sell up to $1.2 Billion of Promissory Notes or Other Evidences of Unsecured Short-Term Indebtedness.

Filed Date: 08/26/2008.

Accession Number: 20080826-5068.

Comment Date: 5 p.m. Eastern Time on Tuesday, September 16, 2008.

Take notice that the Commission received the following open access transmission tariff filings:

Docket Numbers: OA07-32-005.

Applicants: Entergy Services, Inc.

Description: Order No. 890 OATT Compliance Filing.

Filed Date: 09/05/2008.

Accession Number: 20080905-5148.

Comment Date: 5 p.m. Eastern Time on Friday, September 26, 2008.

Docket Numbers: OA08-151-000.

Applicants: Alcoa Power Generating Inc.—Yadkin.

Description: Order No. 890-B Compliance Filing.

Filed Date: 09/08/2008.

Accession Number: 20080908-5149.

Comment Date: 5 p.m. Eastern Time on Monday, September 29, 2008.

Docket Numbers: OA08-152-000.

Applicants: Ohio Valley Electric Corporation.

Description: Ohio Valley Electric Corporation's Order No. 890-B OATT Filing.

Filed Date: 09/08/2008.

Accession Number: 20080908-5150.

Comment Date: 5 p.m. Eastern Time on Monday, September 29, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-21698 Filed 9-16-08; 8:45 am]

BILLING CODE 6717-01-P